DEPARTMENT OF COMMERCE

International Trade Administration

[A-507-502]

Certain In-Shell Pistachios From Iran: Rescission of Antidumping Duty Administrative Review

AGENCY: Import Administration, International Trade Administration, Department of Commerce.

ACTION: Notice of rescission of antidumping duty administrative review.

SUMMARY: On September 6, 2000, in response to a request made by Cyrus Marketing, an importer, the Department of Commerce (the Department) published in the Federal Register (65 FR 53980) a notice announcing the initiation of an administrative review of the antidumping duty order on certain in-shell pistachios from Iran. The review period is July 1, 1999 to June 30, 2000. This review has now been rescinded because Cyrus Marketing has withdrawn its request for review.

EFFECTIVE DATE: April 10, 2001.

FOR FURTHER INFORMATION CONTACT: Phyllis Hall or Donna Kinsella, Enforcement Group III, Office 8, Import Administration, International Trade Administration, U.S. Department of Commerce, 14th Street and Constitution Avenue, NW., Room 7866, Washington, DC 20230; telephone (202) 482-1398 or (202) 482-0194 respectively.

The Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR Part 351 (2000).

Scope of the Review

The product covered by this review is raw, in-shell pistachio nuts from which the hulls have been removed, leaving the inner hard shells, and edible meats from Iran. This merchandise is currently provided for in item 0802502000 of the Harmonized Tariff Schedule.

Background

On July 24, 2000, Cyrus Marketing (an importer) requested an administrative review of the antidumping duty order on certain in-shell pistachios from Iran published in the Federal Register on July 17, 1986 (51 FR 25922) with regard to Rafsanjan Pistachio Producers Cooperative (RPPC), an Iranian producer and exporter of in-shell pistachios. On September 6, 2000, the Department published in the Federal Register (65 FR 53980) a notice of “Initiation of Antidumping and Countervailing Duty Administrative Reviews and Requests for Revocation in Part” initiating the administrative review. On April 2, 2001, the Department received a letter dated March 23, 2001, from Cyrus Marketing withdrawing its request for review. The applicable regulation, 19 CFR 351.213(d)(1), states that if a party that requested an administrative review withdraws the request within 90 days of the publication of the notice of initiation of the requested review, the Secretary will rescind the review. Although Cyrus Marketing's request for withdrawal was made after the 90-day deadline, in accordance with 19 CFR 351.213(d)(1), the Secretary may extend this time limit if the Secretary decides it is reasonable to do so. Given that we have received no submissions opposing Cyrus Marketing's request for withdrawal of the administrative review and Cyrus Marketing was the only party to request the administrative review, we find it reasonable to accept the withdrawal request. Therefore, we are rescinding this review of the antidumping duty order on certain in-shell pistachios from Iran covering the period July 1, 1999 through June 30, 2000.

This notice is issued and published in accordance with section 777(i) of the Act and 19 CFR 351.213(d)(4).

Dated: April 2, 2001.
Joseph A. Spetrini,
Deputy Assistant Secretary, AD/CVD Enforcement Group III.

[FR Doc. 01-8821 Filed 4-9-01; 8:45 am]

BILLING CODE 3510-DS-P